DEPARTMENT OF TRANSPORTATION

Federal Aviation Administration

14 CFR Parts 91 and 103

[Docket No. FAA-2000-8274; Notice No. 00-13]

RIN 2120-AH13

Temporary Flight Restrictions

AGENCY: Federal Aviation Administration (FAA), DOT.

ACTION: Notice of proposed rulemaking (NPRM).

SUMMARY: This action proposes to add a new temporary flight restriction regulation to address specific traffic management procedures for aircraft operations in the vicinity of aerial demonstrations or major sporting events. In addition, this action proposes to change the title of the regulation used to manage aircraft operations near hazard or disaster areas. This action also proposes to clarify the operating requirements for temporary flight restrictions in the vicinity of national disaster areas in the state of Hawaii. Finally this action proposes to amend the Ultralight Vehicle regulations to include all applicable references to temporary flight restrictions. The FAA is proposing these actions to enhance the safe and efficient use of airspace and to prevent any unsafe congestion of sightseeing and other aircraft operations in the vicinity of hazard areas, disaster areas, aerial demonstrations, or major sporting events.

DATES: Send your comments on or before January 16, 2001.

ADDRESSES: Address your comments to the Docket Management System, U.S. Department of Transportation, Room Plaza 401, 400 Seventh Street, SW., Washington, DC 20590-0001. You must identify the docket number FAA-2000-8274 at the beginning of your comments, and you should submit two copies of your comments. If you wish to receive confirmation that FAA received your comments, include a self-addressed, stamped postcard.

You may also submit comments through the Internet to http://dms.dot.gov. You may review the public docket containing comments to these proposed regulations in person in the Dockets Office between 9:00 a.m. and 5:00 p.m., Monday through Friday, except Federal holidays. The Dockets Office is on the plaza level of the NASSIF Building at the Department of Transportation at the above address. Also, you may review public dockets on the Internet at http://dms.dot.gov.

FOR FURTHER INFORMATION CONTACT: Sheri Edgett Baron, Airspace and Rules Division, ATA-400, Office of Air Traffic Airspace Management, Federal Aviation Administration, 800 Independence Avenue, SW., Washington, DC 20591; telephone (202) 267-8783.

SUPPLEMENTARY INFORMATION:

Comments Invited

Interested parties are invited to participate in this proposed rulemaking by submitting such written data, views, or arguments, as they may desire. Comments relating to the environmental, energy, federalism, or economic impact that might result from adopting the proposals in this document are also invited. Substantive comments should be accompanied by cost estimates. Comments must identify the regulatory docket or notice number and be submitted in duplicate to the DOT Rules Docket address specified above.

All comments received, as well as a report summarizing each substantive public contact with FAA personnel concerning this proposed rulemaking, will be filed in the docket. The docket is available for public inspection before and after the comment period closing date.

All comments received on or before the closing date will be considered by the Administrator before taking action on this proposed rulemaking. Comments filed late will be considered as far as possible without incurring expense or delay. The proposals in this document may be changed in light of the comments received.

Commenters wishing the FAA to acknowledge receipt of their comments submitted in response to this notice must include a pre-addressed, stamped postcard with those comments on which the following statement is made: “Comments to Docket No. FAA-2000-XXXX.” The postcard will be date stamped and mailed to the commenter.

Availability of NPRMs

An electronic copy of this document may be downloaded using a modem and suitable communications software from the FAA regulations section of the Fedworld electronic bulletin board service (telephone: 703-321-3339) or the Government Printing Office (GPO) electronic bulletin board service (telephone: 202-512-1661).

Internet users may reach the FAA's web page at http://www.faa.gov/avr/arm/nprm.htm or GPO's webpage at http://www.access.gpo.gov/nara for access to recently published rulemaking documents.

Any person may obtain a copy of this NPRM by submitting a request to the Federal Aviation Administration, Office of Rulemaking, ARM-1, 800 Independence Avenue, SW., Washington, DC 20591, or by calling (202) 267-9680. Communications must identify the notice number of this NPRM. Persons interested in being placed on a mailing list for future NPRM's should request from the above office a copy of Advisory Circular No. 11-2A, Notice of Proposed Rulemaking Distribution System, that describes the application procedure.

Background

Petitions

On May 20, 1999, the Department of Defense (DoD) request that the FAA establish a temporary flight restriction (TFR) to prohibit all non-participating aircraft from operating over or within airspace used by the military aerial demonstration teams such as the United States Air Force Air Demonstration Squadron (the Thunderbirds), the United States Naval Flight Demonstration Team (the Blue Angels), the United States Army Parachute Team (the Golden Knights), or other DoD aircraft teams, while practicing or performing aerial demonstrations. DoD explains that when pilots are executing aerobatic manuevers, they operate aircraft in close formations and perform opposing solo maneuvers at high speeds. DoD contends that in those circumstances, the pilot reaction time necessary to safely “see and avoid” non-participating aircraft could be reduced. In the absence of a TFR, non-participating aircraft can enter, and have entered, both aerial demonstration practice area airspace and airshow airspace. DoD contends that the primary potential safety hazards experienced during air shows were non-participating aircraft that enter the airspace area used for aerial demonstration events.

Operators of DoD aircraft conduct their aerial demonstrations pursuant to a waiver of the requirements listed in 14 Code of Federal Regulations (CFR) part 91, including maximum airspeed and minimum altitude restrictions. In addition, specific DoD-issued requirements are applicable. However, DoD believes that using TFRs over aerial demonstration areas will provide sanitized airspace in which to conduct their aerobatic operations and formally prohibit non-participating aircraft from entering this airspace.

On July 19, 1999, the International Council of Air Shows (ICAS) petitioned the FAA to amend 14 CFR to include regulations that would provide for a safe airspace environment for air show operations (Docket Number 29664). ICAS states that the high speeds and complex maneuvers common in today's air show performances make it impossible for the participating and nonparticipating aircraft to rely completely on the “see and avoid” method of collision avoidance. ICAS believes that TFRs would prevent a midair collision and protect spectators on the ground from possible death or injury and protect property from damage that could result from a non-participating aircraft intruding into aerial demonstration events. ICAS states that it received 48 reports of intrusions, between July 1989 and June 1997, by non-participating aircraft into airspace used by air shows or practice sessions for aerial demonstrations.

In addition, the FAA has received requests from Major League Baseball officials, Summer/Winter Olympics officials, the Tournament of Roses Football Game Committee, and others to temporarily restrict aircraft operations over various major sporting events such as the Olympic Games, the Tournament of Roses Football Game, and the Kodak Albuquerque International Balloon Fiesta.

The FAA has determined that the issues identified by DoD, ICAS, and others have merit. Therefore, the FAA believes a new section pertaining to the management of aircraft operations in the vicinity of aerial demonstrations or major sporting events is warranted. In addition, the FAA considers that this proposed rulemaking responds to the ICAS petition for rulemaking and considers the ICAS petition closed.

Past Practices

On January 25, 1971, the FAA issued the Temporary Flight Restrictions Final Rule (36 FR 1467). This rule amended 14 CFR § 91.91 (since re-codified as 14 CFR § 91.137) to provide for the issuance of a Notice to Airmen (NOTAM) that would implement a TFR over a designated disaster or hazard area. In the preamble to the final rule, the FAA stated that the intent of the rule was to prevent hazardous congestion of sightseeing aircraft over the site of an aircraft or train accident, forest fire, earthquake, flood, or other disaster of substantial magnitude. In the past the FAA has used TFRs for major sporting events and aerial demonstrations based on an interpretation of the scope of § 91.137(a)(3) contained in FAA Order 7210.3R. The order indicates that a TFR may be issued for sporting events or aerial demonstrations generating a high degree of public interest, citing § 91.137(a)(3) as regulatory authority. The FAA has reviewed the regulatory history of § 91.137, and has concluded that it is limited to disaster or hazard areas and was not intended to be used for planned events.

The FAA's proposal to add regulations covering TFRs for major sporting events would overturn the practice of using § 91.137(a)(3). If this proposal is adopted, the FAA Advisory Circulars and FAA Orders addressing TFRs would be modified accordingly.

Special Federal Aviation Regulations

In addition to using § 91.137 for planned events, the FAA has also issued Special Federal Aviation Regulations (SFAR) to establish TFRs in the vicinity of certain major sporting events to address the management of aircraft operations in the vicinity of such events and to prevent unsafe congestion of aircraft that are sightseeing over and around such events. These SFAR were for specific events and had a specific duration. Most recently, for example, on May 18, 1999, the FAA published a Notice of Proposed Rulemaking (NPRM) for an SFAR to establish TFRs for the Kodak Albuquerque International Balloon Fiesta in Albuquerque, NM (64 FR 27160). The proposed restrictions addressed Balloon Fiesta operations for the periods October 2 through October 10, 1999, and October 7 through October 15, 2000. The FAA did not receive any comments on the NPRM, and on August 17, 1999, the FAA published the final SFAR to institute the TFRs (64 FR 44814). The FAA previously published a proposed SFAR for the Kodak Albuquerque International Balloon Fiesta on July 15, 1998 (63 FR 38236) and a final SFAR to implement the TFRs on September 28, 1998 (63 FR 51768). Again, these TFRs were for a specific event and had a short duration while the event was going on. The FAA has issued similar TFRs for other specific events such as the Olympics and Goodwill Games.

In an effort to streamline its processes, the FAA is proposing to establish a rule that will allow the FAA to address the management of aircraft operations in the vicinity of aerial demonstrations and sporting events so that individual SFARs will not have to be issued.

Section-by-Section Discussion of the Proposal

The FAA is proposing several changes to part 91 and part 103. The proposed changes are to:

(1) Change the title of § 91.137 to clarify that the regulation concerns aircraft operations near hazard or disaster areas;

(2) Clarify the operating requirements detailed in § 91.138; and

(3) Add a new section (§ 91.145) that would address the management of aircraft operations in the vicinity of aerial demonstrations and major sporting events.

(4) Amend part 103, Ultralight Vehicles, to include all applicable references to TFRs.

Section 91.137

Section 91.137 is currently titled “Temporary Flight Restrictions,” and prescribes operating requirements to be followed when flight restrictions are issued in accordance with this particular section. However, the title of this section of the regulation is not specific enough in conveying the intent of the regulation, leading to misinterpretation of the purpose of the rule. Currently, the FAA receives many requests for TFRs that do not meet the intent of the rule. To address this issue, the FAA proposes to retitle § 91.137 as “Temporary Flight Restrictions in the Vicinity of Disaster/Hazard Areas,” since this title better describes the intent and activities addressed by this section.

Section 91.138 Temporary Flight Restrictions in National Disaster Areas in the State of Hawaii

The FAA proposes to clarify the operating requirements detailed in § 91.138 by modifying subparagraph (b) to read: “When a NOTAM has been issued in accordance with this section, no person may operate an aircraft within the designated airspace unless at least one of the following conditions is met.” The current language could be misinterpreted to mean that all of the conditions must be met before operating an aircraft within the designated airspace. Clarifying this section will help to avoid any potential confusion.

Section 91.145 Temporary Flight Restrictions in the Vicinity of Aerial Demonstrations or Major Sporting Events

The FAA has determined that the issues identified by DoD, ICAS, and others, as discussed earlier in the preamble, have merit. Accordingly, the FAA is proposing to add a new section to part 91 that would prohibit a person from operating an aircraft or device, or engage in any activity within the designated airspace area, except in accordance with the authorizations, terms, and conditions of the temporary flight restriction in the NOTAM, unless otherwise authorized by: (1) Air traffic control; or (2) A Flight Standards Certificate of Waiver or Authorization issued for the demonstration or event. In addition, the new section proposes to authorize the Administrator to exclude the following flights from a flight restriction issued under the proposed § 91.145: (1) Essential military; (2) Medical and rescue; (3) Presidential and Vice Presidential; (4) Visiting heads of state; (5) Law enforcement and security; and (6) Public health and welfare.

When a TFR of this type is issued, aircraft management procedures for the event would be published in a National Flight Data Center (FDC) NOTAM that would detail, for example, general procedures to include altitudes; times; frequency; point of contact; Air Traffic Control facility; special clearances; and any other pertinent information.

The FAA intends to employ this type of TFR for specific events. Examples of the events that would be covered by the proposed TFR include, but are not limited to the following: the Blue Angels, Thunderbirds, and Golden Knights air demonstration teams; the Summer/Winter Olympic Games; the annual Tournament of Roses Football Game; World Cup Soccer; Major League Baseball All-Star Game; the World Series; the Kodak Albuquerque Internationl Balloon Fiesta; the Sandia Classic Hang Gliding Competition; and the Indianapolis 500 Mile Race. These types of events may be of such a magnitude that would warrant the use of a TFR to prevent the unsafe congestion of aircraft operations in the affected area, and to ensure the safety of persons and property on the ground.

The amount of airspace needed to provide a safe environment for aerial demonstrations/major sporting events would vary depending on the event. The area that would be restricted would normally be limited to the minimum airspace area/altitude/time required to manage participating and non-participating aircraft in the area. For example, during the 1999 Olympic games held in Atlanta, GA, the FAA implemented special traffic management procedures within the airspace overlying competition venues from three hours before to three hours after each event. The TFR areas generally were circular areas of 1 to 4 nautical miles in radius from the surface to approximately 2500 feet above ground level.

During the 1999 Kodak Albuquerque International Balloon Fiesta held in Albuquerque, NM, the FAA implemented special traffic management procedures within a 4 nautical mile radius, extending from the surface up to but not including 8,000 feet mean sea level. The TFR area was in effect between the hours of 0530 Mountain Daylight Time (MDT) and 1200 MDT, and from 1600 MDT until 2200 MDT on October 2 through October 10, 1999, and October 7 through October 15, 2000.

To prevent an unsafe congestion of sightseeing aircraft above an event that may generate a high degree of public interest, the FAA would consider factors such as: The area where the event will be held; effect flight restrictions will have on known aircraft operations; any existing Air Traffic Control (ATC) airspace traffic management restrictions; estimated duration of the event; degree of public interest; number of spectators; provisions for spectator safety, number and types of participating aircraft; use of mixed height and low performance aircraft; impact on non-participating aircraft; weather minimums; and emergency procedures that will be in effect.

Part 103, Section 103.20 Flight Restrictions in the Proximity of Certain Areas Designated by Notice to Airmen

The FAA proposes to revise this section by adding references to §§ 91.137, 91.138, and 91.145. This proposal will ensure that all applicable references to temporary flight restrictions are included in the requirements.

Notice to Airmen Information

Time-critical aeronautical information that is of a temporary nature, or is not sufficiently known in advance to permit publication on aeronautical charts or in other operational publications, receives immediate dissemination via the NOTAM system. All domestic operators planning to fly in the vicinity of aerial demonstrations or major sporting events would need to pay attention to NOTAMS and FDC NOTAM information.

A NOTAM contains information on airports, runways, navigational aids, radar services, and other information essential to flight. A FDC NOTAM contains information that is regulatory in nature, such as amendments to aeronautical charts and restrictions to flight.

Pilots and operators need to consult the monthly NOTAM Domestic/International publication. This publication contains FDC NOTAMs and NOTAMs. Special information, including graphics, would be published in the monthly publication in advance of the event. For more detailed information concerning the NOTAM system, refer to the Aeronautical Information manual “Preflight” section.

Paperwork Reduction Act

The Paperwork Reduction Act of 1995 (44 U.S.C. 3507(d) requires that the FAA consider the impact of paperwork and other information collection burdens imposed on the public. We have determined that there are no new information collection requirements associated with this proposed rule.

International Compatibility

In keeping with U.S. obligations under the Convention on International Civil Aviation, it is FAA policy to comply with International Civil Aviation Organization (ICAO) Standards and Recommended Practices to the maximum extent practicable. The FAA has reviewed the corresponding ICAO Standards and Recommended Practices and has identified no differences with these proposed regulations.

Executive Order 12866 and DOT Regulatory Policies and Procedures

Executive Order 12866, Regulatory Planning and Review, directs the FAA to assess both the costs and benefits of a regulatory change. The FAA is not allowed to propose or adopt a regulation unless a reasoned determination is made that the benefits of the intended regulation justify the costs. The FAA's assessment of this proposal indicates that its economic impact would be minimal. Since its costs and benefits do not make it a “significant regulatory action” as defined in the Order, the FAA has not prepared a “regulatory evaluation,” which is the written cost/benefit analysis ordinarily required for all rulemaking proposals under the DOT Regulatory Policies and Procedures. The FAA does not need to do the latter analysis where the economic impact of a proposal is minimal. The major economic impact of having a temporary flight restriction would be the inconvenience of circumnavigation to operators who may want to operate in the area of the TFR. An aircraft operator could avoid the restricted airspace by flying over it or by circumnavigating the restricted airspace. Because the possibility of such occurrences is for a limited time and the restricted areas are limited in size, circumnavigation costs would be negligible.

The benefits of establishing a TFR would primarily be a lowered risk of midair collisions between participating and non-participating aircraft. While benefits cannot be quantified, the FAA believes the benefits would be commensurate with the costs attributed to the temporary inconvenience of the flight restrictions for operators near the TFR area.

Regulatory Flexibility Determination

The Regulatory Flexibility Act of 1980 (RFA) establishes “as a principle of regulatory issuance that agencies shall endeavor, consistent with the objective on the rule and of applicable statutes, to fit regulatory and informational requirements to the scale of the businesses, organizations, and governmental jurisdictions subject to regulation.” To achieve that principle, the RFA requires agencies to solicit and consider flexible regulatory proposals and to explain the rationale for their actions. The RFA covers a wide-range of small entities, including small businesses, not-for-profit organizations, and small governmental jurisdictions.

Agencies must perform a review to determine whether a proposed or final rule will have a significant economic impact on a substantial number of small entities. If the determination is that it will, the agency must prepare a regulatory flexibility analysis as described in the RFA.

However, if an agency determines that a proposed or final rule is not expected to have a significant economic impact on a substantial number of small entities, section 605(b) of the 1980 act provides that the head of the agency may so certify and a regulatory flexibility analysis is not required. The certification must include a statement providing the factual basis for this determination, and the reasoning should be clear.

The major economic impact of having a temporary flight restriction would be the inconvenience of circumnavigation to operators who may want to operate in the area of the TFR. An aircraft operator could avoid the restricted airspace by flying over it or by circumnavigating the restricted airspace. Because the possibility of such occurrences would be for a limited time and the restricted areas would be limited in size, circumnavigating costs would be negligible. Consequently, the FAA certifies that the proposed rule would not have a significant economic impact on a substantial number of small entities.

International Trade Impact Analysis

The Trade Agreement Act of 1979 prohibits Federal agencies from engaging in any standards or related activities that create unnecessary obstacles to the foreign commerce of the United States. Legitimate domestic objectives, such as safety, are not considered unnecessary obstacles. The statute also requires consideration of international standards and where appropriate, that they be the basis for U.S. standards. In addition, consistent with the Administration's belief in the general superiority and desirability of free trade, it is the policy of the Administration to remove or diminish to the extent feasible, barriers to international trade, including both barriers affecting the export of American goods and services to foreign countries and barriers affecting the import of foreign goods and services into the United States.

In accordance with the above statute and policy, the FAA has assessed the potential effect of this proposed rule and has determined that it would have only a domestic impact and therefore no affect on any trade-sensitive activity.

Unfunded Mandates

The Unfunded Mandates Reform Act of 1995 (the Act), enacted as Public Law 104-4 on March 22, 1995, is intended, among other things, to curb the practice of imposing unfunded Federal mandates on State, local, and tribal governments.

Title II of the Act requires each Federal agency to prepare a written statement assessing the effects of any Federal mandate in a proposed or final agency rule that may result in a $100 million or more expenditure (adjusted annually for inflation) in any one year by State, local, and tribal governments, in the aggregate, or by the private section; such a mandate is deemed to be a “significant regulatory action.”

This proposed rule does not contain such a mandate. Therefore, the requirements of Title II of the Unfunded Mandates Reform Act of 1995 do not apply.

List of Subjects in 14 CFR Part 91

Aircraft flight, Airspace, Aviation safety, Air Traffic Control.

The Proposed Amendment

In consideration of the foregoing, the Federal Aviation Administration proposes to amend parts 91 and 103 of Title 14, Code of Federal Regulations as follows:

PART 91—AIR TRAFFIC AND GENERAL OPERATING RULES

1. The authority citation for 14 CFR part 91 continues to read as follows:

Authority: 49 U.S.C. 106(g), 1155, 40103, 40113, 40120, 44101, 44111, 44701, 44709, 44711, 44712, 44715, 44716, 44717, 44722, 46306, 46315, 46316, 46502, 46504, 46506, 46507, 47122, 47508, 47528-47531.

2. Amend § 91.137 by revising the title as follows:

§ 91.137 Temporary flight restrictions in the vicinity of disaster/hazard areas.

* * * * *

3. Amend § 91.138 by revising paragraph (b) to read as follows:

§ 91.138 Temporary flight restrictions in national disaster areas in the State of Hawaii.

* * * * *

(b) When a NOTAM has been issued in accordance with this section, no person may operate an aircraft within the designated area unless at least one of the following conditions is met:

(1) That person has obtained authorization from the official in charge of associated emergency or disaster relief response activities, and is operating the aircraft under the conditions of that authorization.

(2) The aircraft is carrying law enforcement officials.

(3) The aircraft is carrying persons involved in an emergency or a legitimate scientific purpose.

(4) The aircraft is carrying properly accredited newspersons, and that prior to entering the area, a flight plan is filed with the appropriate FAA or ATC facility specified in the NOTAM and the operation is conducted in compliance with the conditions and restrictions established by the official in charge of on-scene emergency response activities.

(5) The aircraft is operating in accordance with an ATC clearance or instruction.

* * * * *

4. Add § 91.145 to subpart B as follows:

§ 91.145 Management of aircraft operations in the vicinity of aerial demonstrations and major sporting events.

(a) The FAA will issue a Notice to Airmen (NOTAM) designating an area of airspace in which a temporary flight restriction applies when it determines that a TFR is necessary to protect persons or property on the surface or in the air, to maintain air safety and efficiency, or to prevent the unsafe congestion of aircraft in the vicinity of an aerial demonstration or major sporting event.

These demonstrations and events include:

(1) United States Naval Flight Demonstration Team (Blue Angels);

(2) United States Air Force Air Demonstration Squadron (Thunderbirds);

(3) United States Army Parachute Team (Golden Knights);

(4) Summer/Winter Olympic Games;

(5) Annual Tournament of Roses Football Game;

(6) World Cup Soccer;

(7) Major League Baseball All-Star Game;

(8) World Series;

(9) Kodak Albuquerque International Balloon Fiesta;

(10) Sandia Classic Hang Gliding Competition;

(11) Indianapolis 500 Mile Race;

(12) Any other aerial demonstration or sporting event the FAA determines to need a temporary flight restriction in accordance with paragraph (b) of this section.

(b) In deciding whether a temporary flight restriction is necessary for an aerial demonstration or major sporting event not listed in paragraph (a) of this section, the FAA considers the following factors:

(1) Area where the event will be held.

(2) Effect flight restrictions will have on known aircraft operations.

(3) Any existing ATC airspace traffic management restrictions.

(4) Estimated duration of the event.

(5) Degree of public interest.

(6) Number of spectators.

(7) Provisions for spectator safety.

(8) Number and types of participating aircraft.

(9) Use of mixed high and low performance aircraft.

(10) Impact on non-participating aircraft.

(11) Weather minimums.

(12) Emergency procedures that will be in effect.

(c) A NOTAM issued under this section will state the name of the aerial demonstration or sporting event and specify the effective dates and times, the geographic features or coordinates, and any other restrictions or procedures governing flight operations in the designated airspace.

(d) When a NOTAM has been issued in accordance with this section, no person may operate an aircraft or device, or engage in any activity within the designated airspace area, except in accordance with the authorizations, terms, and conditions of the temporary flight restriction published in the NOTAM, unless otherwise authorized by:

(1) Air traffic control; or

(2) A Flight Standards Certificate of Waiver or Authorization issued for the demonstration or event.

(e) For the purpose of this section:

(1) Flight restricted airspace area for an aerial demonstration—The amount of airspace needed to protect persons and property on the surface or in the air, to maintain air safety and efficiency, or to prevent the unsafe congestion of aircraft will vary depending on the aerial demonstration and the factors listed in paragraph (b) of this section. The restricted airspace area will normally be limited to a 5 nautical mile radius from the center of the demonstration and an altitude 17000 mean sea level (for high performance aircraft) or 13000 feet above the surface (for certain parachute operations), but will be no greater than the minimum airspace necessary for the management of aircraft operations in the vicinity of the specified area.

(2) Flight restricted area for a major sporting event—The amount of airspace needed to protect persons and property on the surface or in the air, to maintain air safety and efficiency, or to prevent the unsafe congestion of aircraft will vary depending on the size of the event and the factors listed in paragraph (b) of this section. The restricted airspace will normally be limited to a 3 nautical mile radius from the center of the event and 2500 feet above the surface but will not be greater than the minimum airspace necessary for the management of aircraft operations in the vicinity of the specified area.

(f) A NOTAM issued under this section will be issued at least 30 days in advance of an aerial demonstration or a major sporting event, unless the FAA finds good cause for a shorter period and explains this in the NOTAM.

(g) When warranted, the FAA Administrator may exclude the following flights from the provisions of this section;

(1) Essential military.

(2) Medical and rescue.

(3) Presidential and Vice Presidential.

(4) Visiting heads of state.

(5) Law enforcement and security.

(6) Public health and welfare.

PART 103—ULTRALIGHT VEHICLES

5. The authority citation for 14 CFR part 103 continues to read as follows:

Authority: 49 U.S.C. 106(g), 40103-40104, 40113, 44701.

6. Section 103.20 is revised as follows:

§ 103.20 Flight restrictions in the proximity of certain areas designated by notice to airmen.

No person may operate an ultralight vehicle in areas designated in a Notice to Airmen under § 91.137, § 91.138, § 91.141, § 91.143 or § 91.145 of this chapter, unless authorized by ATC.

Issued in Washington, DC on November 2, 2000.
John Walker,
Program Director, Air Traffic Airspace Management Program.

[FR Doc. 00-29318 Filed 11-15-00; 8:45 am]

BILLING CODE 4910-13-M